DEPARTMENT OF TRANSPORTATION

Pipeline and Hazardous Materials Safety Administration

Hazardous Materials: Notice of Application for Modification of Special Permit

AGENCY: Office of Hazardous Materials Safety, Pipeline and Hazardous Materials Safety Administration (PHMSA), DOT.

ACTION: List of application for modification of special permits.

SUMMARY: In accordance with the procedures governing the application for, and the processing of, special permits from the Department of Transportation's Hazardous Material Regulations (49 CFR part 107, subpart B), notice is hereby given that the Office of Hazardous Materials Safety has received the applications described herein. This notice is abbreviated to expedite docketing and public notice. Because the sections affected, modes of transportation, and the nature of application have been shown in earlier Federal Register publications, they are not repeated here. Requests for modification of special permits (e.g. to provide for additional hazardous materials, packaging design changes, additional mode of transportation, etc.) are described in footnotes to the application number. Application numbers with the suffix “M” denote a modification request. These applications have been separated from the new application for special permits to facilitate processing.

DATES: Comments must be received on or before October 13, 2015.

ADDRESSES: Send comments to: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington, DC or at http://regulations.gov.

This notice of receipt of applications for modification of special permit is published in accordance with part 107 of the Federal hazardous materials transportation law (49 U.S.C. 5117(b); 49 CFR 1.53(b)).

Issued in Washington, DC, on September 8, 2015.
Donald Burger,
Chief, General Approvals and Permits.

Application No. | Docket No. | Applicant | Regulation(s) affected | Nature of permit thereof
7607-M |  | Thermo Fisher Scientific (Former Grantee Thermo Environmental Instruments) Franklin, MA | 49 CFR 172.101; 175.3; 172.306 | To modify the special permit to authorize a new non-specification cylinder design.
12562-M |  | Taeyang Industrial Company Ltd., Chung Nam | 49 CFR 173.304(d)(3)(ii) | To modify the special permit to authorize Division 2.1 hazardous materials and to add an additional inside container design.
15146-M |  | ITW Tech Spray LLC, Kennesaw, GA | 49 CFR 173.304(d) | To modify the special permit to authorize two additional nonspecification inside metal containers similar to a DOT specification 2Q.
15384-M |  | TEA Technologies, Inc., Amarillo, TX | 49 CFR 180.509 | To modify the special permit to authorize retesting tubes once every ten years and the dew point of the gases must be maintained at a temperature no greater than −52F.
15537-M |  | Alaska Pacific Powder Company, Watkins, CO | 49 CFR 172.101 Column (9B) | To modify the special permit to authorize transportation of ammonium nitrite by cargo aircraft in quantities greater than that authorized in the regulation.
16035-M |  | LCF Systems, Inc., Scottsdale, AZ | 49 CFR 173.301a, 173.302a, and 173.304a | To reissue the special permit that was originally issued on an emergency basis with a two year renewal.
16195-M |  | Jaguar Instruments, Inc., Houston, TX | 49 CFR 173.302a and 173.304a | To modify the special permit to authorize manufacturing nonspecification cylinders similar to a DOT 3E cylinder by swaging and spinning.
16239-M |  | Trinity Containers, LLC, Dallas, TX | 49 CFR 171.7 | To reissue the special permit that was originally issued on an emergency basis with a two year renewal.

[FR Doc. 2015-23364 Filed 9-24-15; 8:45 am]

BILLING CODE 4909-60-M